GENERAL SERVICES ADMINISTRATION

41 CFR Chapters 301-11 and 302-4

[FTR Case 2003-301; FTR Amendment 2003-03]

RIN 3090-AH72

Federal Travel Regulation; Per Diem Rates—Removal of Appendix A Per Diem Rate Tables to Chapter 301—Prescribed Maximum Per Diem Rates for CONUS

AGENCY: Office of Governmentwide Policy, Travel Management Policy Division, GSA.

ACTION: Final rule.

SUMMARY: This final rule amends the Federal Travel Regulation (FTR) to remove the per diem rate tables from Appendix A of chapter 301. The Continental United States (CONUS) per diem rates will be published on a periodic basis by the Office of Governmentwide Policy, Office of Transportation and Personal Property, Travel Management Policy, and will be available on the Internet at http://www.gsa.gov/perdiem as FTR Per Diem Bulletins. Such bulletins will be numbered consecutively on a fiscal year basis (e.g., the first bulletin, scheduled to be effective for fiscal year 2003, would be numbered as FTR Per Diem Bulletin #03-1). Subsequent changes or updates to the fiscal year 2003 rate would be numbered 03-2, 03-3, etc. This change in the publication of the CONUS per diem rate is effective April 28, 2003. A notice will be published in the Federal Register to alert readers of any new FTR per diem bulletins.

EFFECTIVE DATE: This final rule is effective April 28, 2003.

FOR FURTHER INFORMATION CONTACT: Mr. Jim Harte, Office of Governmentwide Policy, Travel Management Policy Division, at (202) 501-1538 for technical information. For information pertaining to status or publication schedules, contact the Regulatory and Federal Assistance Publications Division, Room 4035, GS Building, Washington, DC, 20405, at (202) 208-7312.

SUPPLEMENTARY INFORMATION:

A. Background

The change in this final rule is made to expedite and simplify the publication of the CONUS per diem rates established by the General Services Administration (GSA).

B. Executive Order 12866

GSA has determined that this rule is not a significant regulatory action for the purposes of Executive Order 12866 of September 30, 1993.

C. Regulatory Flexibility Act

This final rule is not required to be published in the Federal Register for notice and comments; therefore, the Regulatory Flexibility Act does not apply.

D. Paperwork Reduction Act

The Paperwork Reduction Act does not apply because the rule does not impose recordkeeping or information collection requirements, or the collection of information from offerors, contractors, or members of the public which require the approval of the Office of Management and Budget under 44 U.S.C. 501 et seq.

E. Small Business Regulatory Enforcement Fairness Act

This final rule is also exempt from congressional review prescribed under 5 U.S.C. 801 since it relates solely to agency management and personnel.

List of Subjects in 41 CFR Chapter 301 and 302

Government employees, Travel, Travel allowances, and Travel and transportation expenses.

Dated: January 15, 2003.
Stephen A. Perry,
Administrator of General Services.

For the reasons set forth in the preamble, 41 CFR chapter 301 is amended as follows:

Chapter 301—Temporary Duty (TDY) Travel Allowances

1. The authority citation for 41 CFR part 301-11 continues to read as follows:

Authority: 5 U.S.C. 5707.

2. Revise § 301-11.6 to read as follows:

§ 301-11.6 Where do I find maximum per diem and actual expense rates?

Consult this table to find out where to access per diem rates for various types of Government travel:

For travel in | Rates set by | For per diem and actual expense see
(a) Continental United States (CONUS) | General Services Administration | For per diem, see applicable FTR Per Diem Bulletins issued periodically by the Office of Governmentwide Policy, Office of Transportation and Personal Property, Travel Management Policy, and available on the Internet at http://www.gsa.gov/perdiem for actual expense, see 41 CFR 301-11.303 and 301-11.305.
(b) Non-foreign areas | Department of Defense (Per Diem, Travel and Transportation Allowance Committee (PDTATAC) | Per Diem Bulletins issued by PDTATAC and published periodically in the Federal Register or Internet at http://www.dtic.mil/perdiem/. (Rates also appear in section 925, a per diem supplement to the Department of State Standardized Regulations (Government Civilians—Foreign Areas).)
(c) Foreign areas | Department of State | A per diem supplement to section 925, Department of State Standardized Regulations (Government Civilians—Foreign Areas).

* * * * *

3. Revise Appendix A to chapter 301 to read as follows:

Appendix A to Chapter 301—Prescribed Maximum Per Diem Rates for CONUS

For the Continental United States (CONUS) per diem rates, see applicable FTR Per Diem Bulletins, issued periodically and available on the Internet at http://www.gsa.gov/perdiem.

CHAPTER 302—RELOCATION ALLOWANCES

4. The authority citation for 41 CFR part 302-4 continues to read as follows:

Authority: 5 U.S.C. 5738, 20 U.S.C. 905(a); E.O. 11609; 36 FR 13747, 3 CFR, 1971-1973, Comp, p. 586.

5. Revise § 302-4.200 to read as follows:

§ 302-4.200 What per diem rate will I receive for en route relocation travel within CONUS?

Your per diem for en route relocation travel between your old and new official stations will be at the standard CONUS rate (see applicable FTR Per Diem Bulletins available on the Internet at http://www.gsa.gov/perdiem). You will be reimbursed in accordance with §§ 301-11.100 through 301-11.102 of this title.

[FR Doc. 03-10313 filed 4-25-03; 8:45 am]

BILLING CODE 6820-14-P